DEPARTMENT OF HOMELAND SECURITY

Coast Guard

33 CFR Part 117

[Docket No. USCG-2025-0780]

RIN 1625-AA09

Drawbridge Operation Regulation; Canaveral Barge Canal, Port Canaveral, FL

AGENCY: Coast Guard, DHS.

ACTION: Temporary Interim Rule with request for comments.

SUMMARY: The Coast Guard is temporarily changing the operating schedule that governs the SR 401 Drawbridges across the Canaveral Barge Canal, mile 5.5, at Port Canaveral, FL. This action is necessary to allow the bridge owner to complete the rehabilitation of the bridges. We invite your comments on this temporary interim rule.

DATES: This temporary interim rule is effective without actual notice from October 1, 2025 through January 31, 2026. For purposes of enforcement, actual notice will be used from September 28, 2025 until October 1, 2025.

Comments and related material must reach the Coast Guard on or before October 31, 2025.

ADDRESSES: To view documents mentioned in this preamble as being available in the docket, go to https://www.regulations.gov. Type the docket number USCG-2025-0780 in the “SEARCH” box and click “SEARCH”. In the Document Type column, select “Supporting & Related Material”.

You may submit comments identified by docket number USCG-2025-0780 at https://www.regulations.gov.

See the “Public Participation and Request for Comments” portion of the SUPPLEMENTARY INFORMATION section below for instructions on submitting comments. This notice of proposed rulemaking with its plain-language, 100-word-or-less proposed rule summary will be available in this same docket.

FOR FURTHER INFORMATION CONTACT: If you have questions on this temporary interim rule, call or email Ms. Jennifer Zercher, Bridge Management Specialist, Coast Guard Southeast District; telephone 571-607-5951, email Jennifer.N.Zercher@uscg.mil.

SUPPLEMENTARY INFORMATION:

I. Table of Abbreviations

CFR Code of Federal Regulations

DHS Department of Homeland Security

FR Federal Register

NPRM Notice of proposed rulemaking

Pub. L. Public Law

§ Section

U.S.C. United States Code

FL Florida

TD Temporary Deviation

FDOT Florida Department of Transportation

II. Background Information and Regulatory History

The Coast Guard is issuing this temporary interim rule under the authority in 5 U.S.C. 553(b). This provision authorizes an agency to issue a rule without prior notice and opportunity to comment when the agency for good cause finds that those procedures are “impracticable, unnecessary, or contrary to the public interest.” Under 5 U.S.C. 553(b), the Coast Guard finds that good cause exists for not publishing a notice of proposed rulemaking (NPRM) with respect to this rule because it is impracticable. This bridge is unable to provide full openings without a 4-hour advance notice and will remain unable to provide full openings without a 4-hour advance notice until rehabilitation work can be completed. The Coast Guard must continue its Temporary Deviation from the normal drawbridge operating schedule until the rehabilitation of the bridge is complete.

On April 2, 2025, the Coast Guard issued a Temporary Deviation (TD) which allowed the bridge owner, FDOT, to deviate from the current operating schedule in 33 CFR 117.273(b) to conduct a major mechanical and structural rehabilitation of the bridges. Additional mechanical issues were found during the course of construction and require repairs which will cause the project to run past the end date of September 28, 2025, of the TD. The bridges cannot be brought back to normal operating condition until the rehabilitation of the bridges is complete and tested. Therefore, there is insufficient time to provide a reasonable comment period and then consider those comments before issuing the temporary deviation.

However, we are soliciting comments on this rulemaking during the first 30 days while this rule is in effect. If the Coast Guard determines that changes to the temporary interim rule are necessary, we will publish a temporary final rule or other appropriate document.

Under 5 U.S.C. 553(d)(3), the Coast Guard finds that good cause exists for making this rule effective in less than 30 days after publication in the Federal Register. For reasons presented above, delaying the effective date of this rule would be impracticable and contrary to the public interest because the bridges are unable to operate normally and will not be fully functional until the rehabilitation work is completed.

III. Legal Authority and Need for Rule

The Coast Guard is issuing this temporary interim rule under authority in 33 U.S.C. 499. The Coast Guard is temporarily changing the operating schedule 33 CFR 117.273(b), that governs the SR 401 Drawbridges, across the Canaveral Barge Canal, mile, 5.5, at Port Canaveral, FL. The SR 401 Drawbridges consist of three independent bascule drawbridges, each with a vertical clearance of 25 feet at mean high water in the closed position and 90 feet of horizontal clearance between the fenders in the fully open to navigation position.

The authorized Temporary Deviation states the drawbridges are allowed to provide single-leaf openings and a full opening will be provided with a 4-hour advance notice. FDOT, the bridge owner, requested the Temporary Deviation remain effective until January 31, 2026.

IV. Discussion of the Temporary Interim Rule

The Coast Guard is issuing this temporary interim rule to allow the bridge owner of the SR 401 Drawbridges across the Canaveral Barge Canal, mile 5.5, Port Canaveral, FL, to operate single-leaf openings with a 4-hour notice for a full opening until January 31, 2026. The temporary interim rule is necessary to accommodate the rehabilitation of the drawbridges. The exceptions to the 4-hour notice rule are as follows. From 6:30 a.m. to 8 a.m. and 3:30 p.m. to 5:15 p.m. Monday through Friday except Federal holidays and from 11 a.m. to 2 p.m. on Saturdays and Sundays, the drawspans need not be opened for the passage of vessels. Also, from 10 p.m. to 6 a.m., the drawspans will open on signal if at least a 3-hour advance notice is given. Lastly, the drawspans will open as soon as possible for the passage of public vessels of the United States and tugs with tows.

V. Regulatory Analyses

We developed this temporary interim rule after considering numerous statutes and Executive Orders related to rulemaking. Below we summarize our analyses based on a number of these statutes and Executive Orders.

A. Impact on Small Entities

The regulatory flexibility analysis provisions of the Regulatory Flexibility Act of 1980, 5 U.S.C. 601-612, do not apply to rules not subject to notice and comment. As the Coast Guard has, for good cause, waived the notice and comment requirement that would otherwise apply to this rulemaking, the Regulatory Flexibility Act's flexibility analysis provisions do not apply here.

Under section 213(a) of the Small Business Regulatory Enforcement Fairness Act of 1996 (Pub. L. 104-121), we want to assist small entities in understanding this rule. If the rule would affect your small business, organization, or governmental jurisdiction and you have questions concerning its provisions or options for compliance, please contact the person listed in the FOR FURTHER INFORMATION CONTACT section.

Small businesses may send comments to the Small Business and Agriculture Regulatory Enforcement Ombudsman and the Regional Small Business Regulatory Fairness Boards by calling 1-888-REG-FAIR (1-888-734-3247). The Coast Guard will not retaliate against small entities that question or complain about this rule or any policy or action of the Coast Guard.

B. Collection of Information

This rule calls for no new collection of information under the Paperwork Reduction Act of 1995 (44 U.S.C. 3501-3520).

C. Federalism and Indian Tribal Government

A rule has implications for federalism under Executive Order 13132, Federalism, if it has a substantial direct effect on the States, on the relationship between the national government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

D. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

E. Environment

We have analyzed this rule under Department of Homeland Security Management Directive 023-01, Rev. 1, associated implementing instructions, and Environmental Planning Policy COMDTINST 5090.1 (series) which guide the Coast Guard in complying with the National Environmental Policy Act of 1969 (NEPA) (42 U.S.C. 4321-4370f). The Coast Guard has determined that this action is one of a category of actions that do not individually or cumulatively have a significant effect on the human environment. This rule promulgates the operating regulations or procedures for drawbridges and is categorically excluded from further review, under paragraph L49, of Chapter 3, Table 3-1 of Appendix A, Table 1 of DHS Instruction Manual 023-01-001-01, Rev. 1.

Neither a Record of Environmental Consideration nor a Memorandum for the Record are required for this rule. We seek any comments or information that may lead to the discovery of a significant environmental impact from this temporary interim rule.

VI. Public Participation and Request for Comments

We view public participation as essential to effective rulemaking and will consider all comments and material received during the comment period. Your comment can help shape the outcome of this rulemaking. If you submit a comment, please include the docket number for this rulemaking, indicate the specific section of this document to which each comment applies, and provide a reason for each suggestion or recommendation.

Submitting comments. We encourage you to submit comments at https://www.regulations.gov. To do so, go to https://www.regulations.gov, type USCG-2025-0780 in the search box and click “Search.” Next, look for this document in the Search Results column, and click on it. Then click on the Comment option. If your material cannot be submitted using https://www.regulations.gov, contact the person in the FOR FURTHER INFORMATION CONTACT section of this document for alternate instructions.

Viewing material in docket. To view documents mentioned in this proposed rule as being available in the docket, find the docket as described in the previous paragraph, and then select “Supporting & Related Material” in the Document Type column. Public comments will also be placed in our online docket and can be viewed by following instructions on the https://www.regulations.gov Frequently Asked Questions web page. Also, if you go to the online docket and sign up for email alerts through the “Subscribe” option, you will be notified when comments/updates are posted, or a final rule is published.

Personal information. We accept anonymous comments. Comments we post to https://www.regulations.gov will include any personal information you have provided. For more information about privacy and submissions in response to this document, see DHS's eRulemaking System of Records notice (85 FR 14226, March 11, 2020).

List of Subjects in 33 CFR Part 117

Bridges.

For the reasons discussed in the preamble, the Coast Guard amends 33 CFR part 117 as follows:

PART 117—DRAWBRIDGE OPERATION REGULATIONS

1. The authority citation for part 117 continues to read as follows:

Authority: 33 U.S.C. 499; 33 CFR 1.05-1; and Department of Homeland Security Delegation No. 00170.1. Revision No. 01.3.

2. Section 117.273 is amended by:

a. Staying paragraph (b).

b. Adding paragraph (c) to read as follows:

§ 117.273 Canaveral Barge Canal.

* * * * *

(c) The drawspans of the SR 401 Drawbridges, mile 5.5 at Port Canaveral, shall provide single-leaf openings on signal; a full opening shall be provided with a 4-hour advance notice; except that,

(1) From 6:30 a.m. to 8 a.m. and 3:30 p.m. to 5:15 p.m. Monday through Friday except Federal holidays and from 11 a.m. to 2 p.m. on Saturdays and Sundays, the drawspans need not be opened for the passage of vessels.

(2) From 10 p.m. to 6 a.m., the drawspans shall open on signal if at least a 3-hour advance notice is given.

(3) The drawspans must open as soon as possible for the passage of public vessels of the United States and tugs with tows.

Dated: September 26, 2025.
Adam A. Chamie,
Rear Admiral, U.S. Coast Guard, Commander, Coast Guard Southeast District.

[FR Doc. 2025-19114 Filed 9-30-25; 8:45 am]

BILLING CODE 9110-04-P